DEPARTMENT OF HEALTH AND HUMAN SERVICES

National Institutes of Health

Center for Scientific Review; Amended Notice of Meeting

Notice is hereby given of a change in the meeting of the Center for Scientific Review Special Emphasis Panel, July 20, 2009, 8 a.m. to July 21, 2009, 7:30 p.m., Hyatt Regency Bethesda, One Bethesda Metro Center, 7400 Wisconsin Avenue, Bethesda, MD 20814 which was published in the Federal Register on June 15, 2009, 74 FR 28260-28262.

The meeting will be held at the Doubletree Hotel Washington, 1515 Rhode Island Avenue, NW., Washington, DC 20005. The meeting dates and time remain the same. The meeting is closed to the public.

Dated: June 22, 2009.
Anna Snouffer,
Deputy Director, Office of Federal Advisory Committee Policy.

[FR Doc. E9-15580 Filed 6-30-09; 8:45 am]

BILLING CODE 4140-01-M